DEPARTMENT OF HEALTH AND HUMAN SERVICES

Centers for Disease Control and Prevention

[30 Day 11-0307]

Proposed Data Collections Submitted for Public Comment and Recommendations; Correction

Notice: Correction

The Centers for Disease Control and Prevention published a document in the Federal Register concerning an information collection request. The document contained two incorrect numbers.

FOR FURTHER INFORMATION CONTACT: Carol Walker, 404-639-5960.

Correction

In the Federal Register of November 2, 2011, Volume 75, Number 211, in FR Doc. fr02no10-59 page 67366, under the agency name correct the last sentence in the Federal Register notice to read: The total annual burden is estimated to be 8,628, and in the burden table: Laboratory Form 2 to read 1,452 responses per respondent.

Dated: November 3, 2010.
Carol Walker,
Acting Reports Clearance Officer, Centers for Disease Control and Prevention.

[FR Doc. 2010-28276 Filed 11-8-10; 8:45 am]

BILLING CODE P